TENNESSEE VALLEY AUTHORITY

Meeting of the Regional Energy Resource Council

AGENCY: Tennessee Valley Authority (TVA).

ACTION: Notice of Meeting.

SUMMARY: The TVA Regional Energy Resource Council (RERC) will hold a meeting on Tuesday, May 13, 2014, regarding regional energy related issues in the Tennessee Valley.

The RERC was established to advise TVA on its energy resource activities and the priorities among competing objectives and values. Notice of this meeting is given under the Federal Advisory Committee Act (FACA), 5 U.S.C. App. 2.

The meeting agenda includes the following:

1. Welcome and Introductions.

2. Recap of January 2014 meeting.

3. Presentations and discussion regarding TVA's Integrated Resource Planning process and accomplishments to date.

4. Public Comments.

5. Council discussion regarding progress and development of the Integrated Resource Plan.

The RERC will hear views of citizens by providing a public comment session. The public comment session will be held at 10:45 a.m. CDT, on May 13. Persons wishing to speak are requested to register at the door by 9:45 a.m. on Tuesday, May 13, and will be called on during the public comment period. Handout materials should be limited to one printed page. Written comments are also invited and may be mailed to the Regional Energy Resource Council, Tennessee Valley Authority, 400 West Summit Hill Drive, WT-11 B, Knoxville, Tennessee 37902.

DATES: The meeting will be held on Tuesday, May 13, from 9:00 a.m. to 3:00 p.m. CDT.

ADDRESSES: The meeting will be held at the Nashville Airport Marriott, 600 Marriott Drive, Nashville, TN 37214 and will be open to the public. Anyone needing special access or accommodations should let the contact below know at least a week in advance.

FOR FURTHER INFORMATION CONTACT: Beth Keel, 400 West Summit Hill Drive, WT-11 B, Knoxville, Tennessee 37902, (865) 632-6113.

Dated: April 21, 2014.
Joseph J. Hoagland,
Vice President, Stakeholder Relations,Tennessee Valley Authority.

[FR Doc. 2014-09654 Filed 4-29-14; 8:45 am]

BILLING CODE 8120-08-P